CONSUMER PRODUCT SAFETY COMMISSION

Sunshine Act Meeting Notice

TIME AND DATE: Wednesday, October 19, 2011, 9 a.m.—12 p.m.

PLACE: Room 420, Bethesda Towers, 4330 East West Highway, Bethesda, Maryland.

STATUS: Commission Meeting—Open to the Public.

Matters to be Considered

Decisional Matters:

(1) Testing & Certification/Components Parts Final Rules;

(2) Representative—Notice of Proposed Rulemaking; and

(3) Federal Register Notice on H.R. 2715 Questions.

A live Web cast of the Meeting can be viewed at http://www.cpsc.gov/webcast.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: October 12, 2011.
Todd A. Stevenson,
Secretariat.

[FR Doc. 2011-26606 Filed 10-11-11; 4:15 pm]

BILLING CODE 6355-01-P